COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before November 23, 2015.

ADDRESSES: Comments regarding the burden estimated or any other aspect of the information collection, including suggestions for reducing the burden, may be submitted directly to the Office of Information and Regulatory Affairs (“OIRA”) in OMB, within 30 days of the notice's publication, by email at OIRAsubmissions@omb.eop.gov. Please identify the comments by OMB Control No. 3038-0096. Please provide the Commission with a copy of all submitted comments at the address listed below. Please refer to OMB Reference No. 3038-0096, found on http://reginfo.gov. Comments may also be mailed to the Office of Information and Regulatory Affairs, Office of Management and Budget, Attention: Desk Officer for the Commodity Futures Trading Commission, 725 17th Street NW., Washington, DC 20503, and to the Commission through the Agency's Web site at http://comments.cftc.gov. Follow the instructions for submitting comments through the Web site.

Comments may also be mailed to: Christopher Kirkpatrick, Secretary of the Commission, Commodity Futures Trading Commission, Three Lafayette Centre, 1155 21st Street NW., Washington, DC 20581 or by Hand Delivery/Courier at the same address.

A copy of the supporting statements for the collection of information discussed above may be obtained by visiting http://regInfo.gov. All comments must be submitted in English, or if not, accompanied by an English translation. Comments will be posted as received to http://www.cftc.gov.

FOR FURTHER INFORMATION CONTACT: Thomas Guerin, Division of Market Oversight, Commodity Futures Trading Commission, (202) 734-4194; email: tguerin@cftc.gov and refer to OMB Control No. 3038-0096.

SUPPLEMENTARY INFORMATION: An agency may not conduct or sponsor, and a person is not required to respond to, a collection of information unless it displays a currently valid OMB control number. The Federal Register notice with a 60-day comment period soliciting comments on this collection of information was published on August 7, 2015 (80 FR 47477).

Title: Swap Data Recordkeeping and Reporting Requirements (OMB Control No. 3038-0096). This is a request for extension of a currently approved information collection.

Abstract: Section 727 of the Dodd-Frank Wall Street Reform and Consumer Protection Act (“Dodd-Frank Act”) specifically required that each swap subject to the Commodity Futures Trading Commission's jurisdiction be reported to a newly-created registered entity, the swap data repository. Section 728 of the Dodd-Frank Act specifically required the Commission to establish standards for swap data recordkeeping and reporting, including the data elements to be collected and maintained by swap data repositories for each swap. Section 729 of the Dodd-Frank Act required that at least one counterparty to each swap have an obligation to report data concerning the swap and provided for data reporting to the Commission for swaps not accepted by a swap data repository. Pursuant to this mandate, the Commission adopted 17 CFR part 45 on December 20, 2011, to establish swap data recordkeeping and reporting requirements. This ICR concerns the collections of information required by 17 CFR part 45.

The Commission estimated that approximately 30,210 entities would be affected by this ICR. That number was based on the current estimate of the total number of swap data repositories, swap execution facilities, designated contract markets, derivatives clearing organizations, swap dealers, major swap participants and other swap counterparties. The Commission did not receive any comments regarding the burden estimated or any other aspect of this ICR.

Burden Statement: The total annual time burden for this ICR is estimated to be 445,910 hours. This estimate includes the time to comply with swap data recordkeeping and reporting requirements codified in 17 CFR part 45. Provisions of Commission Regulations §§ 45.2, 45.3, 45.4, 45.5, 45.6, 45.7, and 45.14 result in information collection requirements within the meaning of the PRA. To the extent that the recordkeeping and reporting requirements codified in 17 CFR part 45 overlap with the requirements of other rulemakings for which the Commission prepared and submitted an information collection burden estimate to OMB, the burden associated with the requirements are not being accounted for in this ICR to avoid unnecessary duplication of information collection burdens.

Respondents/Affected Entities: Swap data repositories, swap execution facilities, designated contract markets, derivatives clearing organizations, swap dealers, major swap participants and other swap counterparties (i.e., non-swap dealer/non-major swap participant counterparties).

Estimated Number of Respondents: 30,210.

Estimated Total Annual Burden on Respondents: 445,910 hours.

Frequency of Collection: Ongoing.

Authority: 44 U.S.C. 3501 et seq.

Dated: October 19, 2015
Robert N. Sidman,
Deputy Secretary of the Commission.

[FR Doc. 2015-26833 Filed 10-21-15; 8:45 am]

BILLING CODE 6351-01-P